DEPARTMENT OF ENERGY

Federal Energy Regulatory Commission

Docket No. RP03-200-000]

Enbridge Pipelines (Midla) L.L.C.; Notice of Proposed Changes in FERC Gas Tariff

December 18, 2002.

Take notice that on December 13, 2002, Enbridge Pipelines (Midla) L.L.C. (Midla) tendered for filing as part of its FERC Gas Tariff, Fifth Revised Volume No. 1, the following tariff sheets, with an effective date of January 1, 2003:

First Revised Sheet Nos. 137, 139, 140, 141 and 155

Midla states that the purpose of the filing is to comply with the Commission's Order issued on October 31, 2002 in Docket No. RM98-10-011 wherein the Commission ordered all pipelines, that were required to offer segmentation, to file revised tariff sheets to expressly permit segmented transactions consisting of forwardhauls up to contract demand and backhauls up to contract demand to the same point at the same time. Additionally, in the same Order, the Commission removed the five (5) year term matching cap for the right of first refusal. Midla states that the instant filing complies with the Commission's Order.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. Comments, protests and interventions may be filed electronically via the Internet in lieu of paper. The Commission strongly encourages electronic filings. See 18 CFR 385.2001(a)(1)(iii) and the instructions on the Commission's Web site under the “e-Filing” link.

Intervention Date: December 26, 2002.

Linwood A. Watson, Jr.,
Deputy Secretary.

[FR Doc. 02-32487 Filed 12-23-02; 8:45 am]

BILLING CODE 6717-01-P